DEPARTMENT OF LABOR

Employment and Training Administration

[TA-W-58,503]

Kentucky Derby Hosiery Company Currently Known as Gildan Inc., Plant 8; Hillsville, VA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on January 20, 2006, applicable to all workers of Kentucky Derby Hosiery Company, Plant 8 located in Hillsville, Virginia. The notice was published in the Federal Register on February 3, 2006 (71 FR 5894-5896).

At the request of the State agency, the Department reviewed the certification for workers of the subject firm. The workers produce knit socks.

New information provided by the State and a company official confirm that the subject firm was sold to Gildan Inc. in July 2006 and workers continued to produce knit socks. Furthermore, worker separations have occurred under the new ownership. Accordingly, the Department is amending the certification to reflect the successor firm's name.

It is the Department's intent to provide coverage to all workers of the subject firm adversely affected by increased imports.

The amended notice applicable to TA-W-58,503 is hereby issued as follows:

All workers of Kentucky Derby Hosiery Company, currently known as Gildan Inc., Plant 8, Hillsville, Virginia, who became totally or partially separated from employment on or after December 12, 2004, through January 20, 2008, are eligible to apply for adjustment assistance under section 223 of the Trade Act of 1974, and are also eligible to apply for alternative trade adjustment assistance under section 246 of the Trade Act of 1974.

Signed in Washington, DC, this 10th day of October, 2006.
Linda G. Poole,
Certifying Officer, Division of Trade Adjustment Assistance.

[FR Doc. E6-17115 Filed 10-13-06; 8:45 am]

BILLING CODE 4510-30-P